INTERNATIONAL TRADE COMMISSION

[Investigation Nos. 701-TA-579-580 (Final)]

Fine Denier Polyester Staple Fiber From China and India; Determinations

On the basis of the record ¹ developed in the subject investigations, the United States International Trade Commission (`Commission”) determines, pursuant to the Tariff Act of 1930 (“the Act”), that an industry in the United States is materially injured by reason of imports of fine denier polyester staple fiber (“fine denier PSF”) from China and India, provided for in subheading 5503.20.00 of the Harmonized Tariff Schedule of the United States, that have been found by the U.S. Department of Commerce (“Commerce”) to be subsidized by the governments of China and India.

¹ The record is defined in sec. 207.2(f) of the Commission's Rules of Practice and Procedure (19 CFR 207.2(f)).

Background

The Commission, pursuant to section 705(b) of the Act (19 U.S.C. 1671d(b)), instituted these investigations effective May 31, 2017, following receipt of a petition filed with the Commission and Commerce by DAK Americas LLC, Charlotte, NC; Nan Ya Plastics Corporation, America, Lake City, SC; and Auriga Polymers Inc., Charlotte, NC. The final phase of the investigations was scheduled by the Commission following notification of preliminary determinations by Commerce that imports of fine denier PSF from China and India were being subsidized within the meaning of section 703(b) of the Act (19 U.S.C. 1671b(b)). Notice of the scheduling of the final phase of the Commission's investigations and of a public hearing to be held in connection therewith was given by posting copies of the notice in the Office of the Secretary, U.S. International Trade Commission, Washington, DC, and by publishing the notice in the Federal Register of November 27, 2017 (82 FR 56050). The hearing was held in Washington, DC, on January 17, 2018, and all persons who requested the opportunity were permitted to appear in person or by counsel.

The Commission made these determinations pursuant to section 705(b) of the Act (19 U.S.C. 1671d(b)). It completed and filed its determinations in these investigations on March 7, 2018. The views of the Commission are contained in USITC Publication 4765 (March 2018), entitled Fine Denier Polyester Staple Fiber from China and India: Investigation Nos. 701-TA-579-580 (Final).

By order of the Commission.
Issued: March 7, 2018.
Lisa R. Barton,
Secretary to the Commission.

[FR Doc. 2018-04972 Filed 3-12-18; 8:45 am]

BILLING CODE 7020-02-P